OFFICE OF PERSONNEL MANAGEMENT

Excepted Service; April 2022

AGENCY: Office of Personnel Management (OPM).

ACTION: Notice.

SUMMARY: This notice identifies Schedule A, B, and C appointing authorities applicable to a single agency that were established or revoked from April 1, 2022, to April 30, 2022.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during April 2022.

Schedule B

No Schedule B Authorities to report during April 2022.

Schedule C

The following Schedule C appointing authorities were approved during April 2022.

Agency name | Organization name | Position title | Authorization No. | Effective date
DEPARTMENT OF AGRICULTURE | Farm Service Agency | State Executive Director—Oregon State Executive Director—South Dakota State Executive Director—Indiana State Executive Director—Ohio State Executive Director—Rhode Island | DA220111 DA220113 DA220114 DA220118 DA220120 | 04/08/2022 04/08/2022 04/08/2022 04/22/2022 04/22/2022
| Office of the General Counsel | Senior Counselor | DA220115 | 04/08/2022
| Office of the Secretary | Director of Scheduling and Advance | DA220116 | 04/08/2022
| Office of Rural Development | State Director—Kentucky | DA220119 | 04/22/2022
| Office of the Assistant Secretary for Congressional Relations | Legislative Advisor | DA220121 | 04/22/2022
DEPARTMENT OF COMMERCE | National Telecommunications and Information Administration | Advisor for Intergovernmental Affairs Project Management Specialist Public Engagement Advisor | DC220080 DC220103 DC220104 | 04/08/2022 04/08/2022 04/08/2022
| Office of the Assistant Secretary for Economic Development | Director of External Affairs | DC220100 | 04/08/2022
DEPARTMENT OF DEFENSE | Office of the Assistant Secretary of Defense (Readiness) | Special Assistant | DD220125 | 04/07/2022
| Office of the Secretary of Defense | Advance Officer | DD220128 | 04/19/2022
DEPARTMENT OF THE ARMY | Office Assistant Secretary Army (Manpower and Reserve Affairs) | Special Assistant to the Assistant Secretary of the Army (Manpower and Reserve Affairs) | DW220028 | 04/21/2022
DEPARTMENT OF EDUCATION | Office of the Under Secretary Office of the General Counsel | Confidential Assistant Confidential Assistant | DB220043 DB220047 | 04/06/2022 04/26/2022
DEPARTMENT OF ENERGY | Office of the Secretary | Deputy Chief of Staff | DE220042 | 04/04/2022
| Office of the Assistant Secretary for Congressional and Intergovernmental Affairs | Deputy Assistant Secretary, Public Engagement | DE220036 | 04/14/2022
| Office of the Assistant Secretary for Nuclear Energy | Chief of Staff | DE220051 | 04/14/2022
ENVIRONMENTAL PROTECTION AGENCY | Office of the Administrator | Deputy White House Liaison | EP220043 | 04/26/2022
DEPARTMENT OF HEALTH AND HUMAN SERVICES | Center for Medicaid and Chip Services Center for Medicare Office for Civil Rights | Policy Advisor Policy Advisor Senior Advisor | DH220078 DH220077 DH220067 | 04/28/2022 04/28/2022 04/07/2022
| Office of Intergovernmental and External Affairs | Regional Director, Chicago, Illinois-Region V Regional Director, Philadelphia Region III | DH220058 DH220072 | 04/04/2022 04/13/2022
| Office of the Assistant Secretary for Public Affairs | Advisor, Public Education Campaign Press Secretary | DH220079 DH220080 | 04/28/2022 04/28/2022
| Office of the Secretary | Special Assistant and Briefing Book Coordinator Senior Advisor, Boards and Commissions | DH220066 DH220068 | 04/04/2022 04/07/2022
DEPARTMENT OF HOMELAND SECURITY | Federal Emergency Management Agency Office for Civil Rights and Civil Liberties Office of the General Counsel | Deputy Director of Public Affairs Chief of Staff Oversight Counsel | DM220129 DM220135 DM220138 | 04/14/2022 04/27/2022 04/26/2022
| Office of the Secretary | Deputy White House Liaison | DM220142 | 04/20/2022
| Transportation Security Administration | Special Assistant | DM220145 | 04/25/2022
| Office of United States Immigration and Customs Enforcement | Counselor to the Director | DM220131 | 04/28/2022
DEPARTMENT OF HOUSING AND URBAN DEVELOPMENT | Office of Field Policy and Management | Senior Advisor | DU220039 | 04/22/2022
DEPARTMENT OF THE INTERIOR | Office of the Assistant Secretary—Fish and Wildlife and Parks | Senior Advisor | DI220063 | 04/26/2022
| Office of the Solicitor | Advisor to the Solicitor (Attorney Advisor) | DI220058 | 04/20/2022
| Secretary's Immediate Office | Senior Communications Advisor for Infrastructure | DI220059 | 04/19/2022
DEPARTMENT OF JUSTICE | Office of Legal Policy | Senior Counsel | DJ210102 | 04/13/2022
| Office of the Deputy Attorney General | Counsel | DJ210103 | 04/13/2022
| Office of Public Affairs | Deputy Speechwriter | DJ220055 | 04/21/2022
| Office of Antitrust Division | Senior Counsel | DJ220069 | 04/21/2022
DEPARTMENT OF LABOR | Office of Disability Employment Policy | Chief of Staff | DL220043 | 04/13/2022
| Office of the Assistant Secretary for Policy | Good Jobs Initiative Policy Advisor | DL220044 | 04/13/2022
OFFICE OF PERSONNEL MANAGEMENT | Office of the Congressional, Legislative, and Intergovernmental Affairs | Deputy Director | PM220024 | 04/05/2022
OFFICE OF SCIENCE AND TECHNOLOGY POLICY | Office of Science and Technology Policy | Director for Legislative Affairs | TS220004 | 04/27/2022
SOCIAL SECURITY ADMINISTRATION | Office of the Commissioner | Senior Advisor | SZ220004 | 04/08/2022
DEPARTMENT OF STATE | Office of Global Food Security | Special Envoy for Global Food Security | DS220030 | 04/05/2022
| Bureau of Counterterrorism | Deputy Coordinator | DS220031 | 04/05/2022
| Bureau of Overseas Buildings Operations | Supervisory Museum Curator (Arts) | DS220032 | 04/05/2022
TRADE AND DEVELOPMENT AGENCY | Office of the Director | Congressional Affairs Director | TD220005 | 04/14/2022
DEPARTMENT OF TRANSPORTATION | Office of the Assistant Secretary for Governmental Affairs | Principal Deputy Assistant Secretary for Congressional Affairs (Senate) | DT220074 | 04/26/2022
| Office of the Assistant Secretary for Transportation Policy | Strategic Advisor for Technical Assistance and Community Solutions | DT220065 | 04/19/2022
| Office of the Deputy Secretary | Advisor to the Deputy Secretary | DT220070 | 04/13/2022
| Office of the General Counsel | Special Counsel | DT220069 | 04/12/2022
| Office of the Secretary | Special Assistant for Advance | DT220067 | 04/07/2022
DEPARTMENT OF THE TREASURY | Office of the General Counsel Secretary of the Treasury | Policy Advisor Special Assistant (2) Special Advisor | DY220096 DY220095 DY220097 DY220101 | 04/12/2022 04/12/2022 04/12/2022 04/20/2022

The following Schedule C appointing authorities were revoked during April 2022.

Agency name | Organization name | Position title | Request No. | Vacate date
DEPARTMENT OF EDUCATION | Office of the Under Secretary | Confidential Assistant | DB220043 | 04/12/2022
DEPARTMENT OF ENERGY | Office of the Assistant Secretary for Congressional and Intergovernmental Affairs | Special Assistant | DE210197 | 04/23/2022
| Office of the Assistant Secretary for Electricity | Special Assistant | DE210196 | 04/04/2022
| Office of the Assistant Secretary for International Affairs | Special Assistant | DE210195 | 04/23/2022
| Office of the Assistant Secretary for Nuclear Energy | Special Assistant | DE210158 | 04/23/2022
| Office of Economic Impact and Diversity | Special Assistant | DE210163 | 04/23/2022
| Office of Management | Special Assistant for Advance Special Assistant | DE210124 DE210166 | 04/23/2022 04/23/2022
| Office of Policy | Special Assistant | DE210192 | 04/23/2022
| Office of Public Affairs | Deputy Director | DE210147 | 04/23/2022
|  | Special Assistant | DE210201 | 04/09/2022
Office of Science | Special Assistant | DE210188 | 04/23/2022
| Office of the Secretary | Special Assistant to the Deputy Chief of Staff Special Assistant to the Chief of Staff | DE210155 DE210190 | 04/23/2022 04/23/2022
DEPARTMENT OF HEALTH AND HUMAN SERVICES | Office of the Secretary | White House Liaison | DH210059 | 04/10/2022
DEPARTMENT OF HOUSING AND URBAN DEVELOPMENT | Office of the Deputy Secretary | Deputy White House Liaison | DU210047 | 04/23/2022
DEPARTMENT OF THE TREASURY | Secretary of the Treasury | Senior Advisor Senior Advisor for Technology and Delivery | DY210092 DY210099 | 04/02/2022 04/01/2022
DEPARTMENT OF VETERANS AFFAIRS | Office of the Assistant Secretary for Congressional and Legislative Affairs | Advisor for Congressional and Legislative Affairs | DV210034 | 04/09/2022
| Office of the Assistant Secretary for Enterprise Integration | Strategic Advisor | DV210067 | 04/23/2022
| Office of the Assistant Secretary for Public and Intergovernmental Affairs | Strategic Communications Advisor | DV210023 | 04/09/2022
| Office of the General Counsel | Attorney Advisor to General Counsel | DV210066 | 04/09/2022
| Office of the Secretary and Deputy | Policy Advisor | DV210115 | 04/24/2022
| Veterans Benefits Administration | Benefits Advisor to the Under Secretary for Benefits | DV210112 | 04/24/2022
| Veterans Experience Office | Strategic Advisor to Chief Veterans Experience Officer | DV210056 | 04/23/2022
| Veterans Health Administration | Health Advisor to the Under Secretary for Health | DV220009 | 04/24/2022
ENVIRONMENTAL PROTECTION AGENCY | Office of Public Engagement and Environmental Education Office of the Administrator | Public Engagement Specialist Deputy White House Liaison | EP220034 EP210100 | 04/01/2022 04/09/2022
| Office of the Associate Administrator for Congressional and Intergovernmental Relations | Deputy Associate Administrator for Intergovernmental Affairs | EP210014 | 04/15/2022
|  | Senior Advisor for Congressional Affairs | EP220027 | 04/09/2022
NATIONAL LABOR RELATIONS BOARD | Office of the Board Members | Communications Specialist | NL210003 | 04/23/2022
OFFICE OF PERSONNEL MANAGEMENT | Office of the General Counsel | Senior Counsel | PM210077 | 04/23/2022
OFFICE OF THE SECRETARY OF DEFENSE | Office of the Assistant to the Secretary of Defense (Public Affairs) | Chief of Staff | DD210133 | 04/30/2022
| Office of the Secretary of Defense | Protocol Officer | DD210151 | 04/10/2022
| Office of the Under Secretary of Defense (Acquisition and Sustainment) | Special Assistant | DD210174 | 04/09/2022
| Office of the Under Secretary of Defense (Personnel and Readiness) | Special Assistant | DD210176 | 04/23/2022
| Office of the Under Secretary of Defense (Policy) | Special Assistant | DD210202 | 04/05/2022
SMALL BUSINESS ADMINISTRATION | Office of the Administrator | Special Assistant | SB210042 | 04/02/2022

Authority: 5 U.S.C. 3301 and 3302; E.O. 10577, 3 CFR, 1954-1958 Comp., p. 218.

Office of Personnel Management.
Stephen Hickman,
Federal Register Liaison.

[FR Doc. 2022-18180 Filed 8-23-22; 8:45 am]

BILLING CODE 6325-39-P